DEPARTMENT OF AGRICULTURE

Forest Service

Mendocino Resource Advisory Committee

AGENCY: Forest Service, USDA.

ACTION: Notice of meeting.

SUMMARY: The Mendocino County Resource Advisory Committee (RAC) will meet November 18, 2005, in Willits, California. Agenda items to be covered include: (1) Approval of minutes, (2) Public Comment, (3) Sub-committees, (4) discussion—items of interest (a) historical aspects of Beaver Glade; budget update, (5) Discussion/approval of projects, (6) next agenda items and meeting date.

DATES: The meeting will be held on November 18, 2005, from 9 a.m. to 12 noon.

ADDRESSES: The meeting will be held at the Mendocino County Museum, located at 400 E. Commercial St., Willits, California.

FOR FURTHER INFORMATION CONTACT: Roberta Hurt, Committee Coordinator, USDA, Mendocino National Forest, Covelo Ranger District, 78150 Covelo Road, Covelo CA 95428. (707) 983-8503; E-mail: rhurt@fs.fed.us.

SUPPLEMENTARY INFORMATION: The meeting is open to the public. Persons who wish to bring matters to the attention of the Committee may file written statements with the Committee staff by November 12, 2005. Public will have the opportunity to address the committee at the meeting.

Dated: November 1, 2005.
Blaine Baker,
Designated Federal Official.

[FR Doc. 05-22197 Filed 11-7-05; 8:45 am]

BILLING CODE 3410-11-M